CONSUMER PRODUCT SAFETY COMMISSION

[Docket No. CPSC-2011-0058]

Toy Safety Standard: Strategic Outreach and Education Plan

AGENCY: U.S. Consumer Product Safety Commission.

ACTION: Notice.

SUMMARY: The Consumer Product Safety Commission (“CPSC,” “Commission,” or “we”) is announcing the development of a strategic outreach and education plan to help the business community and other stakeholders learn about testing and certification requirements for children's toys and toy chests and their compliance with ASTM International's (formerly the American Society for Testing and Materials) (“ASTM”) Standard Consumer Safety Specification for Toy Safety, F 963-08 (“ASTM F 963-08”), and section 4.27 (toy chests) from ASTM International's F 963-07ε1 version of the standard (“ASTM F 963-07ε1”). We describe the plan and invite public comment on how we might improve the plan.

DATES: Written comments must be submitted no later than October 21, 2011.

ADDRESSES: You may submit comments, identified by Docket No. CPSC-2011-0058, by any of the following methods:

Electronic Submissions

Submit electronic comments in the following way:

Federal eRulemaking Portal: http://www.regulations.gov. Follow the instructions for submitting comments.

To ensure timely processing of comments, the Commission is no longer accepting comments submitted by electronic mail (e-mail) except through www.regulations.gov.

Written Submissions

Submit written submissions in the following way:

Mail/hand delivery/courier (for paper, disk, or CD-ROM submissions), preferably in [six] copies, to: Office of the Secretary, Consumer Product Safety Commission, Room 502, 4330 East West Highway, Bethesda, MD 20814; telephone (301) 504-7923.

Instructions: All submissions received must include the agency name and docket number for this rulemaking. All comments received may be posted, without change, including any personal identifiers, contact information, or other personal information provided to: http://www.regulations.gov. Do not submit confidential business information, trade secret information, or other sensitive or protected information electronically. Such information should be submitted in writing.

Docket: For access to the docket to read background documents or comments received, go to: http://www.regulations.gov.

FOR FURTHER INFORMATION CONTACT: Neal S. Cohen, Small Business Ombudsman, Consumer Product Safety Commission, Bethesda, MD 20814; telephone: (301) 504-7504; e-mail: ncohen@cpsc.gov.

SUPPLEMENTARY INFORMATION:

I. Background

On July 20, 2011, the Commission voted to approve publication of a “notice of requirements” that would establish the criteria and process for the CPSC's acceptance of accreditation of third party conformity assessment bodies (commonly referred to as “laboratories”) for testing, pursuant to ASTM International's (formerly the American Society for Testing and Materials) (“ASTM”) Standard Consumer Safety Specification for Toy Safety, F 963-08 (“ASTM F 963-08”), and section 4.27 (toy chests) from ASTM International's F 963-07ε1 version of the standard (“ASTM F 963-07ε1”). (For simplicity, we will refer to both standards as the “toy safety standard”).

The issuance of the “notice of requirements” by the Commission means that manufacturers of children's toys must ensure that covered toys are tested for compliance with the toy safety standard by an accredited third party laboratory whose accreditation is accepted by the CPSC. The “notice of requirements” also means that based on the results of the third party testing, toy manufacturers must issue a written children's product certificate that certifies the compliance of each covered toy to the toy safety standard. The Commission will enforce these third party testing and certification requirements beginning with those covered toys manufactured after December 31, 2011.

Given the likely impact on those who manufacture or import toys that are covered by the toy safety standard, we believe that it is important to engage in a strategic outreach and education plan to the business community and other stakeholders. An effective outreach and education plan will target the affected group of stakeholders and give the small business community and other stakeholders clear and detailed information to enable them to plan and act accordingly and make more informed and timely business decisions.

This notice describes our outreach and education plan. We intend to make information on our plan and on the toy safety standard available at: http://www.cpsc.gov/toysafety by September 30, 2011.

We envision three stages for this strategic outreach and education plan:

• Stage 1 will inform stakeholders generally about the need to test and certify to the toy safety standard. We plan to use traditional and social media to communicate the toy safety requirements and the effective compliance date of January 1, 2012. In addition, staff will target relevant trade publications, industry organizations, consumer groups, and others to ensure that the communications message is disseminated widely and to solicit additional outreach ideas and targets. The Small Business Ombudsman will publish a plain English guide on the requirements. Additionally, we hope that the publication of this document in the Federal Register may elicit additional suggestions and ideas.

• Stage 2 will provide detailed “Frequently Asked Questions” (“FAQs”) and examples so that stakeholders can better understand the requirements and staff's interpretations of certain provisions before the requirements go into effect. We believe that issuing FAQs in a timely fashion will allow the small business community and other stakeholders to plan and act accordingly to make more informed and timely business decisions. Traditionally, we have used FAQs as a means of explaining new regulations and requirements; however, we are also exploring other means of illustrating the toy safety requirements, such as instructional videos and webinars.

• Stage 3 will begin after we have developed the materials to educate stakeholders. We will target our ongoing education campaign efforts to promote higher rates of compliance with the toy standard and the testing and certification requirements. We will attend industry trade shows, as funding permits, and make presentations about the new requirements. In addition, we will attend international meetings, conferences, trade shows, and other public forums, as funding permits, where we will speak about the new requirements and serve as a resource for companies seeking additional information. Because many small businesses have modest or nonexistent travel budgets, we will also host webinars for identified target groups. All webinars will be free of charge and will be posted publicly on the CPSC website.

Through this notice, we invite public comment on the following questions:

1. What is the most effective way to identify stakeholders in the industry to whom we should direct our outreach efforts for the toy safety standard? Please identify ideas and specific stakeholders and their contact information, if known.

2. What are the most useful and effective education and communication tools that we can use to communicate and explain the new requirements of the toy safety standard?

3. What are the relevant trade groups and other organizations that can help communicate these new requirements to their members and others? Please identify individual groups and organizations and provide contact information, if known.

4. What are the appropriate trade magazines and other publications targeted to toy manufacturers and others, including retailers, in the toy industry? We are interested particularly in medium- and small-size publications that target individual toy makers and crafters, such as those making wooden toys. Please identify publications and provide contact information, if known.

5. What are the local, national, and international trades shows that target toy manufacturers and others in the toy industry? Please identify trade shows and dates and provide contact information, if known.

6. What other stakeholders or groups should we target in our outreach and education efforts? Please identify and provide contact information, if known.

7. What are other suggestions for successful implementation of the new requirements?

Interested parties should submit comments to http://www.regulations.gov, as described in the ADDRESSES portion of this document.

Dated: August 30, 2011.
Todd A. Stevenson,
Secretary, Consumer Product Safety Commission.

[FR Doc. 2011-22603 Filed 9-2-11; 8:45 am]

BILLING CODE 6355-01-P